DEPARTMENT OF THE INTERIOR

Fish and Wildlife Service

[FWS-R4-R-2010-N277; 40136-1265-0000-S3]

Cabo Rojo National Wildlife Refuge, Cabo Rojo, Puerto Rico; Draft Comprehensive Conservation Plan and Environmental Assessment

AGENCY: Fish and Wildlife Service, Interior.

ACTION: Notice of availability; request for comments.

SUMMARY: We, the Fish and Wildlife Service (Service), announce the availability of our draft comprehensive conservation plan and environmental assessment (Draft CCP/EA) for Cabo Rojo National Wildlife Refuge (NWR) for public review and comment. In the Draft CCP/EA, we describe the alternative we propose to use to manage this refuge for the 15 years following approval of the final CCP.

DATES: To ensure consideration, we must receive your written comments by June 1, 2011.

ADDRESSES: You may obtain a copy of the Draft CCP/EA by contacting Ms. Laura Housh, Regional Planner, Okefenokee NWR, 2700 Suwannee Canal Road, Folkston, GA 31537. Alternatively, you may download the document from our Internet Site at http://southeast.fws.gov/planning under “Draft Documents.”

FOR FURTHER INFORMATION CONTACT: Ms. Laura Housh, at 912/496-6273 (telephone) or laura_housh@fws.gov (e-mail); or Mr. Oscar Díaz, at 787/851-7258, extension 312 (telephone), or oscar_diaz@fws.gov (e-mail).

SUPPLEMENTARY INFORMATION:

Introduction

With this notice, we continue the CCP process for Cabo Rojo NWR. We started the process through a notice of intent in the Federal Register on March 12, 2007 (72 FR 11047). For more about the refuge, its purposes, and our CCP process, please see that notice.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

The refuge lies along a coastal plain and has a few gently rolling hills overlooking the southwestern tip of Puerto Rico. The establishment of the refuge was justified for the potential value that the habitat held for migratory birds and also for its value in providing habitat for resident birds, particularly doves and pigeons. The area is one of the few blocks of land in southwestern Puerto Rico west of the Guánica Commonwealth Forest remaining in public ownership. The native vegetation is classified as subtropical dry forest under the Holdridge classification of world life zones. At least 245 plant species and 145 bird species have been identified on the refuge.

CCP Alternatives, Including Our Proposed Alternative

We developed three alternatives for managing the refuge and chose Alternative C as the proposed alternative. A full description of each alternative is in the Draft CCP/EA. We summarize each alternative below.

Alternative A (Current Management, No Action)

Under this alternative, we would continue to restore and maintain existing sub-tropical dryland forests, salt lagoons, and grassland habitats. Active habitat wetland management would be implemented by continuing water level manipulations for management of the saltwater lagoons through a special use permit with a commercial salt production company. We would continue to accommodate environmental education and interpretation programs and wildlife observation and photography. The friends group, Caborrojeños, would continue to partner with us in providing limited visitor services. The law enforcement program for the protection of wildlife and visitors would continue at current levels.

Alternative B (Resource Emphasis)

Under this alternative, we would provide greater management of habitats and associated plant communities for the benefit of wildlife.

Activities that would be expanded or introduced under this alternative would include: Managing endangered plant populations and reducing the occurrence of exotic species; exploring opportunities and alternatives to assume direct control of managing water levels in the saltwater lagoons; establishing and managing a larger nursery to increase reforestation of native tree species in upland areas; restoring additional freshwater and saltwater ponds to increase avian habitat; expanding the volunteer base to increase habitat restoration activities; and proactively expanding research collaboration with universities.

Additional staff would be required to implement this alternative. Such staff would likely include a biologist, a volunteer coordinator, and additional support staff.

Alternative C (Habitat and Public Use Emphasis, Proposed)

Under this alternative, our emphasis would be on improving refuge resources for habitat and wildlife. We would provide greater support for the visitor service program, including emphasis on the following: Developing a curriculum-based environmental education program; expanding the role of the friends group to include providing staffing and interpreting services at the new visitor services center; reviewing and updating our brochures and website, including offering a Spanish version of the website; updating current kiosks and building new kiosks along the trail system; expanding the volunteer program to also provide assistance with public use activities; seeking and developing new partnerships, particularly with regard to trail maintenance; and adding additional signage to clarify refuge uses.

Additional staff required to implement Alternative C would include an additional visitor services/environmental education specialist and a volunteer coordinator. Additional infrastructure would also be required to expand activities under this alternative, including developing volunteer housing and acquiring one or more additional vehicles.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: January 5, 2011.
Mark J. Musaus,
Acting Regional Director.

[FR Doc. 2011-10547 Filed 4-29-11; 8:45 am]

BILLING CODE 4310-55-P